TENNESSEE VALLEY AUTHORITY

[Meeting No. 14-03]

Sunshine Act Meeting Notice

August 21, 2014.

The TVA Board of Directors will hold a public meeting on August 21, 2014, in the TVA West Tower Auditorium, 400 West Summit Hill Drive, Knoxville, Tennessee. Members of the public may comment on any agenda item or subject at a public listening session which begins at 8:30 a.m. (e.t). Registration of speakers at the public listening session is required. Speakers may preregister at www.tva.com/abouttva/board/, or register on-site until 15 minutes before the public listening session begins. Preregistered speakers will address the Board first. Following the public listening session, the meeting will be called to order to consider the agenda items listed below. TVA management will answer questions from the news media following the Board meeting.

Status: Open

Agenda

Old Business

Approval of minutes of May 8, 2014, Board meeting

New Business

1. Chairman's welcome

2. Report from President and CEO

3. Report of the External Relations Committee

4. Report of the Finance, Rates, and Portfolio Committee

A. FY 2015 Financial plan and budget

B. Financing authority

C. Rate actions

D. Generation fleet planning—Allen Fossil Plant

5. Report of the Audit, Risk, and Regulation Committee

A. Policy on Audit and Non-Audit Permissible Services

B. FY 2015 external auditor selection

6. Report of the People and Performance Committee

A. Corporate goals

B. Bylaws Revision to Section 1.7

7. Report of the Nuclear Oversight Committee

A. Watts Bar 2 Update

8. Information Items

A. Power supply arrangements with an industrial customer

B. Kingston claims settlement

For more information: Please call TVA Media Relations at (865) 632-6000, Knoxville, Tennessee. People who plan to attend the meeting and have special needs should call (865) 632-6000. Anyone who wishes to comment on the agenda in writing may send their comments to: TVA Board of Directors, Board Agenda Comments, 400 West Summit Hill Drive, Knoxville, Tennessee 37902.

Dated: August 14, 2014.
Ralph E. Rodgers,
General Counsel and Secretary.

[FR Doc. 2014-19720 Filed 8-15-14; 11:15 am]

BILLING CODE 8120-08-P